NUCLEAR REGULATORY COMMISSION

10 CFR Part 72

RIN 3150-AH98

List of Approved Spent Fuel Storage Casks: HI-STORM 100 Revision 3; Withdrawal of Direct Final Rule

AGENCY: U.S. Nuclear Regulatory Commission.

ACTION: Direct final rule; withdrawal.

SUMMARY: The U.S. Nuclear Regulatory Commission (NRC) is withdrawing a direct final rule that would have revised the Holtec International HI-STORM 100 cask system listing within the “List of Approved Spent Fuel Storage Casks” to include Amendment No. 3 to the Certificate of Compliance. The NRC is taking this action because it has received significant adverse comments in response to the direct final rule. These significant adverse comments shall be considered as comments to the companion proposed rule that was published concurrently with the direct final rule.

FOR FURTHER INFORMATION CONTACT: Jayne M. McCausland, Office of Federal and State Materials and Environmental Management Programs, U.S. Nuclear Regulatory Commission, Washington, DC 20555, telephone (301) 415-6219 (e-mail: jmm2@nrc.gov).

SUPPLEMENTARY INFORMATION: On October 16, 2006 (71 FR 60659), the NRC published in the Federal Register a direct final rule amending its regulations in 10 CFR 72.214 to revise the Holtec International HI-STORM 100 cask system listing within the “List of Approved Spent Fuel Storage Casks” to include Amendment No. 3 to the Certificate of Compliance Number 1014 (CoC No. 1014). Amendment No. 3 modifies the present cask system design by revising: Technical Specification (TS) 3.1.3 to eliminate cooling of the Multi-Purpose Canister (MPC) cavity prior to reflood with water, as part of cask unloading operations; TS 3.3.1 to allow linear interpolation between minimal soluble boron concentrations, for certain fuel enrichments in the MPC-32/32F; Appendix B, Section 1, to make modifications to the definitions of fuel debris, damaged fuel assembly, and non-fuel hardware; and Appendix B, Section 2, to permit the storage of pressurized water reactor fuel assemblies with annular fuel pellets in the top and bottom 12 inches of the active fuel length. Amendment No. 3 also revises CoC No. 1014 to incorporate minor editorial corrections. The direct final rule was to become effective on January 2, 2007. The NRC also concurrently published a companion proposed rule on October 16, 2006 (71 FR 60672).

In the direct final rule, NRC stated that if any significant adverse comments were received, a notice of timely withdrawal of the direct final rule would be published in the Federal Register and the direct final rule would not take effect.

The NRC received significant adverse comments on the direct final rule; therefore, the NRC is withdrawing the direct final rule. These significant adverse comments shall be considered as comments to the companion proposed rule that was published concurrently with the direct final rule. The NRC will not initiate a second comment period on the companion proposed rule.

Dated at Rockville, Maryland, this 14th day of December, 2006.
For the Nuclear Regulatory Commission.
Luis A. Reyes,
Executive Director for Operations.

[FR Doc. E6-22109 Filed 12-26-06; 8:45 am]

BILLING CODE 7590-01-P